ENVIRONMENTAL PROTECTION AGENCY

[FRL-8530-5]

Science Advisory Board Staff Office; Notification of Upcoming Meeting of the Science Advisory Board Ecological Processes and Effects Committee

AGENCY: Environmental Protection Agency (EPA).

ACTION: Notice.

SUMMARY: The Environmental Protection Agency (EPA or Agency) Science Advisory Board (SAB) Staff Office announces a public meeting of the SAB Ecological Processes and Effects Committee to provide advice on the EPA Ecological Research Program's Multi-Year Plan.

DATES: The meeting dates are Wednesday, April 9, 2008 from 8:30 a.m. to 5:30 p.m. through Thursday, April 10, 2008 from 8:30 a.m. to 2 p.m. (Eastern Time).

ADDRESSES: The meeting will be held in the SAB Conference Center, located at: 1025 F Street, NW., Room 3705, Washington, DC 20004.

FOR FURTHER INFORMATION CONTACT: Members of the public who wish to obtain further information about this meeting must contact Dr. Thomas Armitage, Designated Federal Officer (DFO). Dr. Armitage may be contacted at the EPA Science Advisory Board (1400F), U.S. Environmental Protection Agency, 1200 Pennsylvania Avenue, NW., Washington, DC 20460; or via telephone/voice mail; (202) 343-9995; fax (202) 233-0643; or e-mail at: armitage.thomas@epa.gov. General information about the EPA SAB, as well as any updates concerning the meeting announced in this notice, may be found on the SAB Web site at: http://www.epa.gov/sab.

SUPPLEMENTARY INFORMATION: Pursuant to the Federal Advisory Committee Act, Public Law 92-463, notice is hereby given that the SAB Ecological Processes and Effects Committee will hold a public meeting to provide advice on the EPA Ecological Research Program's Multi-Year Plan and discuss other Committee business. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The EPA Office of Research and Development has developed a draft Ecological Research Program Multi-Year Plan that establishes long-term and annual goals for the Agency's Ecological Research Program and discusses planned research. The Multi-Year Plan describes a new direction for the Ecological Research Program intended to fill the need for a better understanding of the implications of human impacts on ecosystems and the services they provide. The redirected Ecological Research Program builds on past research efforts in ecosystem monitoring, restoration, and functioning to develop operational methods for incorporating quantitative information on ecosystem services into decision making.

EPA's Office of Research and Development has requested that the SAB provide advice on the program focus, research questions, and implementation approach articulated in the Agency's draft Ecological Research Program Multi-Year Plan. The SAB has been asked to comment on: (1) The utility of the program in offering meaningful contributions to ecological sciences and providing useful information for decision making, (2) the adequacy of the proposed goals, objectives, and research questions in meeting the overall purpose of the program, (3) the proposed implementation approach, (4) anticipated challenges to achieving the overall goal of the program, and (5) ways to measure the progress, productivity, efficiency, and effectiveness of the program.

To augment the expertise on the SAB Ecological Processes and Effects Committee, the SAB Staff Office has selected several SAB committee members with expertise in valuing ecosystem services to participate in this advisory activity. The roster and biosketches of members of the Ecological Processes and Effects Committee augmented for the advisory on EPA's Ecological Research Program are posted on the SAB Web site at: http://www.epa.gov/sab.

Availability of Meeting Materials: The draft Ecological Research Program Multi-Year Plan to be reviewed by the SAB Committee will be posted on the EPA Office of Research and Development SAB Web site at: http://www.epa.gov/ord/htm/multi-yearplans.htm. The EPA technical contact for the Ecological Research Program Multi-Year Plan is Dr. Rick Linthurst, EPA Office of Research and Development. Dr. Linthurst may be contacted by telephone at (919) 541-4909, or via e-mail at: linthurst.rick@epa.gov. The agenda and other material for the upcoming public meeting will be posted on the SAB Web site at: http://www.epa.gov/sab.

Procedures for Providing Public Input: Interested members of the public may submit relevant written or oral information for the SAB Panel to consider on the topics included in this advisory activity and/or group conducting the activity. Oral Statements: In general, individuals or groups requesting an oral presentation at a public meeting will be limited to five minutes per speaker, with no more than a total of one hour for all speakers. Interested parties should contact Dr. Armitage, DFO, in writing (preferably via e-mail) at the contact information noted above, by April 2, 2008 be placed on a list of public speakers for the meeting. Written Statements: Written statements should be received in the SAB Staff Office by March 12, 2008 so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Armitage at the phone number or e-mail address noted above, preferably at least ten days prior to the meeting to give EPA as much time as possible to process your request.

Dated: February 12, 2008.
Anthony F. Maciorowski,
Deputy Director, EPA Science Advisory Board Staff Office.

[FR Doc. E8-3115 Filed 2-19-08; 8:45 am]

BILLING CODE 6560-50-P